DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Union Pacific Railroad Company

[Docket Number FRA-2007-28454]

By a letter dated January 16, 2009, FRA granted conditional relief in response to the petition filed by the Union Pacific Railroad Company (UP) for a waiver of compliance from 49 CFR 232.305(b)(2) Single car air brake tests as it relates to UP's in-train wheel-set replacement program. Specifically, UP sought relief from the regulation to the extent necessary to permit the replacement of non-FRA-condemnable wheel-sets on railcars as part of an in-train wheel-set replacement program without the need to also perform single car air brake tests (SCABT) as required by § 232.305(b)(2), if the car has not received a SCABT within the previous 12 months. UP now, by a letter dated June 5, 2009, seeks revision of Condition 6 of FRA's January 16, 2009, letter. Condition 6 requires the identification and removal of wheels exerting 100 kips or greater, or exerting 90 kips and an acoustic bearing detector defect, when the car is empty at the first in-train wheel replacement location. UP's complete request can be reviewed at http://www.regulations.gov under the docket number listed above.

UP states that the threshold of “100 kips” in Condition 6 is onerous, is contrary to UP's and other railroads experience of this threshold as being close to 140 kips, is not a requirement in 49 CFR regulations, is an unnecessarily strict standard exclusive to UP's in-train wheel-set replacement program, places UP in a different category than other railroads, and hampers UP's innovative and voluntary effort to improve safety by allowing it to replace an increased numbers of wheel-sets with incipient defects. As a result, UP requests that FRA modify this condition to require replacement of wheels exerting 140 kips or greater, or wheels exerting 90 kips in conjunction with acoustic bearing detector defects.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2007-28454) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, D.C. 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on November 23, 2009.
Grady C. Cothen, Jr.,
Deputy Associate Administrator for Safety Standards and Program Development.

[FR Doc. E9-28480 Filed 11-27-09; 8:45 am]

BILLING CODE 4910-06-P